DEPARTMENT OF TRANSPORTATION

Federal Aviation Administration

14 CFR Part 39

[Docket No. FAA-2007-27680 Directorate Identifier 2007-CE-026-AD; Amendment 39-15128; AD 2007-14-06]

RIN 2120-AA64

Airworthiness Directives; AEROTECHNIC Vertiebs-u. Service GmbH Model Honeywell CAS67A ACAS II Systems Appliances

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

It was detected by the STC holder that in earlier installations of the ACASII system there were no isolation diodes installed in the Heading and Attitude Valid lines. The absence of an isolation diode in the valid lines can prevent the valid flag to come up even if a gyro fault exists. The problem has only been detected for Heading Valid lines but could equally affect the Attitude Valid lines.

With installation of the ACASII, the heading and attitude valid lines have to be connected to the TPU67A. On valid state, the signals are +28VDC. On invalid, the signals are open. This condition of direct connection (without an isolation diode installed) of the valid lines to the TPU67A, if not corrected, could cause the TPU67A to feed current into the open stated valid lines. This prevents the flag to appear even if the gyro is invalid, providing the flight crew with erroneous navigation information.

We are issuing this AD to require actions to correct the unsafe condition on these products.

DATES: This AD becomes effective August 16, 2007.

On August 16, 2007, the Director of the Federal Register approved the incorporation by reference of certain publications listed in this AD.

ADDRESSES: You may examine the AD docket on the Internet at http://dms.dot.gov or in person at Document Management Facility, U.S. Department of Transportation, Docket Operations, M-30, West Building Ground Floor, Room W12-140, 1200 New Jersey Avenue, SE., Washington, DC 20590.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

We issued a notice of proposed rulemaking (NPRM) to amend 14 CFR part 39 to include an AD that would apply to the specified products. That NPRM was published in the Federal Register on April 26, 2007 (72 FR 20780). That NPRM proposed to correct an unsafe condition for the specified products. The MCAI states:

It was detected by the STC holder that in earlier installations of the ACASII system there were no isolation diodes installed in the Heading and Attitude Valid lines. The absence of an isolation diode in the valid lines can prevent the valid flag to come up even if a gyro fault exists. The problem has only been detected for Heading Valid lines but could equally affect the Attitude Valid lines.

With installation of the ACASII, the heading and attitude valid lines have to be connected to the TPU67A. On valid state, the signals are +28VDC. On invalid, the signals are open. This condition of direct connection (without an isolation diode installed) of the valid lines to the TPU67A, if not corrected, could cause the TPU67A to feed current into the open stated valid lines. This prevents the flag to appear even if the gyro is invalid, providing the flight crew with erroneous navigation information.

For the reasons stated above, this Airworthiness Directive (AD) requires the installation of isolation diodes into the signal lines to the TPU67A to prevent reverse feed of the valid lines.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

The FAA is not aware of any airplanes on the U.S. Registry that have the affected equipment installed. All airplanes with this equipment included in the applicability of this rule currently are operated by non-U.S. operators under foreign registry; therefore, they are not directly affected by this AD action at this time. However, the FAA considers this rule necessary to ensure that the unsafe condition is addressed in the event that any of these subject airplanes are imported and placed on the U.S. Registry.

Should an affected airplane be imported and placed on the U.S. Registry, accomplishment of the required action will take approximately 8 work-hours at an average labor rate of $80 per work-hour. Required parts will cost about $50 per product. Where the service information lists required parts costs that are covered under warranty, we have assumed that there will be no charge for these costs. As we do not control warranty coverage for affected parties, some parties may incur costs higher than estimated here.

Based on these figures, the total cost impact of this AD will be $690 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-14-06 AEROTECHNIC Vertiebs -u. Service GmbH: Amendment 39-15128; Docket No. FAA-2007-27680; Directorate Identifier 2007-CE-026-AD.

Effective Date

(a) This airworthiness directive (AD) becomes effective August 16, 2007.

Affected ADs

(b) None.

Applicability

(c) This AD applies to Honeywell CAS67A ACAS II systems that are installed on, but not limited to, DORNIER LUFTFAHRT GmbH Models Dornier 228-100, Dornier 228-101, Dornier 228-200, Dornier 228-201, and Dornier 228-212 airplanes that:

(1) Had Supplemental Type Certificate No. SA1310 installed prior to January 31, 2005; and

(2) are certificated in any category.

Subject

(d) Air Transport Association of America (ATA) Code 34: Navigation.

Reason

(e) The mandatory continuing airworthiness information (MCAI) states:

It was detected by the STC holder that in earlier installations of the ACASII system there were no isolation diodes installed in the Heading and Attitude Valid lines. The absence of an isolation diode in the valid lines can prevent the valid flag to come up even if a gyro fault exists. The problem has only been detected for Heading Valid lines but could equally affect the Attitude Valid lines.

With installation of the ACASII, the heading and attitude valid lines have to be connected to the TPU67A. On valid state, the signals are +28VDC. On invalid, the signals are open. This condition of direct connection (without an isolation diode installed) of the valid lines to the TPU67A, if not corrected, could cause the TPU67A to feed current into the open stated valid lines. This prevents the flag to appear even if the gyro is invalid, providing the flight crew with erroneous navigation information.

For the reasons stated above, this Airworthiness Directive (AD) requires the installation of isolation diodes into the signal lines to the TPU67A to prevent reverse feed of the valid lines.

Actions and Compliance

(f) Unless already done, within the next 100 hours time-in-service (TIS) after August 16, 2007 (the effective date of this AD), modify the Honeywell CAS67A ACASII System Installation following Aerotechnic Vertiebs -u. Service GmbH Service Bulletin No. DO228-119780-0104, Revision 2, dated December 21, 2006.

FAA AD Differences

Note: This AD differs from the MCAI and/or service information as follows: No differences.

Other FAA AD Provisions

(g) The following provisions also apply to this AD:

(1) Alternative Methods of Compliance (AMOCs): The Manager, Standards Staff, FAA, ATTN: Karl Schletzbaum, Aerospace Engineer, FAA, Small Airplane Directorate, 901 Locust, Room 301, Kansas City, Missouri 64106; telephone: (816) 329-4146; fax: (816) 329-4090, has the authority to approve AMOCs for this AD, if requested using the procedures found in 14 CFR 39.19. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No. 2007-0059, dated March 5, 2007, and Aerotechnic Vertiebs -u. Service GmbH Service Bulletin No. DO228-119780-0104, Revision 2, dated December 21, 2006, for related information.

Material Incorporated by Reference

(i) You must use Aerotechnic Vertiebs -u. Service GmbH Service Bulletin No. DO228-119780-0104 Revision 2, dated December 21, 2006, to do the actions required by this AD, unless the AD specifies otherwise.

(1) The Director of the Federal Register approved the incorporation by reference of this service information under 5 U.S.C. 552(a) and 1 CFR part 51.

(2) For service information identified in this AD, contact AEROTECHNIC Vertriebs-und Service GmbH, Baden Airpark, Montreal Avenue D425, 77836 Rheinmuenster; telephone: +49 7229 66 2400; facsimile: +49 7229 66 2409.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on June 29, 2007.
Kim Smith,
Manager, Small Airplane Directorate, Aircraft Certification Service.

[FR Doc. E7-13249 Filed 7-11-07; 8:45 am]

BILLING CODE 4910-13-P